DEPARTMENT OF ENERGY

Federal Energy Regulatory Commission

[Docket No. RP01-458-000]

Tennessee Gas Pipeline Company; Notice of Proposed Change in FERC Gas Tariff

June 22, 2001.

Take notice that on June 15, 2001, Tennessee Gas Pipeline Company (Tennessee), tendered for filing as part of its FERC Gas Tariff, Fifth Revised Volume No. 1, Second Revised Tariff Sheet No. 175. Tennessee requests that the tariff sheet be made effective August 1, 2001.

Tennessee states that the purpose of Tennessee's tariff filing is to provide formal notice to Rate Schedule FT-G customers and the Commission that Tennessee intends to charge FT-G customers for both the transportation of “swing” volumes into and out of storage commenting August 1, 2001. Tennessee states that its Order No. 636 compliance filing in Docket No. RS92-23 contemplated that Tennessee would charge FT-G customers the applicable commodity rate and fuel for the transportation of “swing” volumes both into and out of storage. However, in setting up its billing system to implement the extensive changes required by Order No. 636, Tennessee inadvertently treated Rate Schedule FT-G customers the same as Rate Schedule FT-GS customers with respect to the transportation of storage “swing” volumes. In that regard, in Docket No. RS92-23, the Commission ruled that Tennessee could charge FT-GS customers only for transportation from customers' receipt points to their citygates. Tennessee Gas Pipeline Co., 62 FERC ¶ 61,250, at 62,658 (1993).

As a result of administrative oversight, Tennessee set up its billing system so that FT-G customers would be billed for the transportation of storage “swing” volumes in the same manner as FT-GS customers. Specifically, when a customer scheduling deliveries to its citygate takes less than the scheduled quantity, the variance would be treated as a storage injection and the customer would pay the applicable commodity rate and fuel for transportation from the receipt point to the citygate; when the customer takes more than its scheduled quantity at the citygate, the variance would be treated as a storage withdrawal, but the customer would not be charged for the transportation of such storage withdrawal quantity from the storage field to the citygate. By the instant tariff filing, Tennessee indicates its intent to commence charging FT-G shippers separately for the transportation of “swing” volumes to and from storage commencing August 1, 2001. Although Tennessee does not believe that a tariff filing is necessary to bill FT-G shippers in this manner, given the length of time that Tennessee has inadvertently not charged FT-G customers for the transportation of “swing” volumes both into and out of storage, Tennessee believes that it is appropriate to provide formal notice to its customers of its plans via a tariff filing.

Tennessee states that copies of the filing have been mailed to each of Tennessee's customers and the affected state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-16223 Filed 6-27-01; 8:45 am]

BILLING CODE 6717-01-M